DEPARTMENT OF DEFENSE

Department of the Army

Intent to Grant an Exclusive License to University Massachusetts Lowell

AGENCY: Department of the Army, DoD.

ACTION: Notice.

SUMMARY: In accordance with 35 U.S.C. 209(e) and 37 CFR 404.7(a)(l)(i), announcement is made of the intent to grant an exclusive, royalty-bearing, revocable license to U.S. Patent Application No. 10,408,679 filed April 4, 2003, entitled “Polymeric Antioxidants” to University Massachusetts Lowell, with its principal place of business at 600 Suffolk Street, Second Floor South, Lowell, Massachusetts 01854.

FOR FURTHER INFORMATION CONTACT: Mr. Robert Rosenkrans at U.S. Army Soldier Systems Center (SSC), Kansas Street, Natick, MA 01760, Phone; (508) 233-4928 or E-mail: Robert.Rosenkrans@natick.army.mil.

SUPPLEMENTARY INFORMATION: The prospective exclusive license will be royalty bearing and will comply with the terms and conditions of 35 U.S.C. 209 and 37 CFR 404.7. The prospective exclusive license may be granted, unless within fifteen (15) days from the date of this published Notice, SSC receives written evidence and argument to establish that the grant of the license would not be consistent with the requirements of 35 U.S.C. 209 and 37 CFR 404.7. The following Patent Application Number, Title and Filing date is provided:

Patent Application: 10/408,679.

Title: “Polymeric Antioxidants”.

Filed: April 4, 2003.

Brenda S. Bowen,
Alternate Army Federal Register Liaison Officer.

[FR Doc. 04-7615 Filed 4-2-04; 8:45 am]

BILLING CODE 3710-08-M